OFFICE OF MANAGEMENT AND BUDGET

Acquisition Advisory Panel; Notification of Upcoming Meetings of the Acquisition Advisory Panel

AGENCY: Office of Management and Budget, Executive Office of the President.

ACTION: Notice of Federal Advisory Committee meetings.

SUMMARY: The Office of Management and Budget announces two meetings of the Acquisition Advisory Panel (AAP or “Panel”) established in accordance with the Services Acquisition Reform Act of 2003.

DATES: There are two meetings announced in this Federal Register notice. Public meetings of the Panel will be held on March 29th, 2006 and April 21, 2006, both beginning at 10 a.m. eastern standard time and ending no later than 5 p.m.

ADDRESSES: Both public meetings will be held at the White House Conference Center, Truman Room, 726 Jackson Place, NW., Washington, DC 20503. The public is asked to pre-register one week in advance for both meetings due to security and/or seating limitations (see below for information on pre-registration).

FOR FURTHER INFORMATION CONTACT: Members of the public wishing further information concerning these meetings or the Panel itself, or to pre-register for the meetings, should contact Ms. Laura Auletta, Designated Federal Officer (DFO), at: laura.auletta@gsa.gov, phone/voice mail (202) 208-7279, or mail at: General Services Administration, 1800 F. Street, NW., Room 4006, Washington, DC 20405. Members of the public wishing to reserve speaking time must contact Ms. Rosanne Tarapacki, AAP Staff Analyst, in writing at: rosanne.tarapacki@gsa.gov or by FAX at 202-501-3341, or mail at the address given above for the DFO, no later than one week prior to the meeting at which they wish to speak.

SUPPLEMENTARY INFORMATION: (a) Background: The purpose of the Panel is to provide independent advice and recommendations to the Office of Federal Procurement Policy and Congress pursuant to Section 1423 of the Services Acquisition Reform Act of 2003. The Panel's statutory charter is to review Federal contracting laws, regulations, and governmentwide policies, including the use of commercial practices, performance-based contracting, performance of acquisition functions across agency lines of responsibility, and governmentwide contracts. Interested parties are invited to attend the meetings. Opportunity for public comments will be provided at both meetings. Any change will be announced in the Federal Register.

All Meetings—While the Panel may hear from additional invited speakers, the focus of these meetings will be discussions of working group findings and recommendations. Selected working groups, established at the February 28, 2005 and May 17, 2005 public meetings of the AAP (see http://www.acqnet.gov/aap for a list of working groups), will discuss with the full Panel the draft findings and recommendations briefed at the October, November and December 2005 public meetings. It is anticipated that some voting may occur at one or both of these meetings. The Panel welcomes oral public comments at these meetings and has reserved one-half hour for this purpose at each meeting. Members of the public wishing to address the Panel during the meeting must contact Ms. Rosanne Tarapacki, in writing, as soon as possible to reserve time (see contact information above).

(b) Posting of Draft Reports: Members of the public are encouraged to regularly visit the Panel's Web site for draft reports. Currently, the working groups are staggering the posting of various sections of their draft reports at http://www.acqnet.gov/aap under the link for “Working Group Reports.” New versions of the reports from the Small Business and Interagency Contracting Working Groups are available and the public is encouraged to submit written comments on any and all draft reports.

(c) Adopted Recommendations: The Panel has adopted recommendations presented by the Small Business and Interagency Contracting Working Groups. While additional recommendations from these two working groups are likely, the public is encouraged to review and comment on the recommendations adopted by the Panel to date by going to http://www.acqnet.gov/aap, selecting the link for “Meeting Materials” and opening the files that include the words “with votes” in their titles for the January 31st and February 23rd meetings.

(d) Availability of Meeting Materials: Please see the Panel's Web site for any available materials, including draft agendas and minutes (http://www.acqnet.gov/aap). Questions/issues of particular interest to the Panel are also available to the public on this Web site on its front page, including “Questions for Government Buying Agencies,” “Questions for Contractors that Sell Commercial Goods or Services to the Government,” “Questions for Commercial Organizations,” and an issue raised by one Panel member regarding the rules of interpretation and performance of contracts and liabilities of the parties entitled “Revised Commercial Practices Proposal for Public Comment.” The Panel encourages the public to address any of these questions/issues when presenting either oral public comments or written statements to the Panel.

(e) Procedures for Providing Public Comments: It is the policy of the Panel to accept written public comments of any length, and to accommodate oral public comments whenever possible. The Panel Staff expects that public statements presented at Panel meetings will be focused on the Panel's statutory charter and working group topics, and not be repetitive of previously submitted oral or written statements, and that comments will be relevant to the issues under discussion.

Oral Comments: Speaking times will be confirmed by Panel staff on a “first-come/first-served” basis. To accommodate as many speakers as possible, oral public comments must be no longer than 10 minutes. Because Panel members may ask questions, reserved times will be approximate. Interested parties must contact Ms. Rosanne Tarapacki, in writing (via mail, e-mail, or fax identified above for Ms. Tarapacki) at least one week prior to the meeting in order to be placed on the public speaker list for the meeting. Oral requests for speaking time will not be taken. Speakers are requested to bring extra copies of their comments and/or presentation slides for distribution to the Panel at the meeting. Speakers wishing to use a Power Point presentation must e-mail the presentation to Ms. Tarapacki one week in advance of the meeting.

Written Comments: Although written comments are accepted until the date of the meeting (unless otherwise stated), written comments should be received by the Panel Staff at least one week prior to the meeting date so that the comments may be made available to the Panel for their consideration prior to the meeting. Written comments should be supplied to the DFO at the address/contact information given in this FR Notice in one of the following formats (Adobe Acrobat, WordPerfect, Word, or Rich Text files, in IBM-PC/Windows 98/2000/XP format). Please note: Because the Panel operates under the provisions of the Federal Advisory Committee Act, as amended, all public presentations will be treated as public documents and will be made available for public inspection, up to and including being posted on the Panel's Web site.

(f) Meeting Accommodations: Individuals requiring special accommodation to access the public meetings listed above should contact Ms. Auletta at least five business days prior to the meeting so that appropriate arrangements can be made.

Laura Auletta,
Designated Federal Officer (Executive Director), Acquisition Advisory Panel.

[FR Doc. 06-2385 Filed 3-8-06; 12:53 pm]

BILLING CODE 3110-01-P